DEPARTMENT OF LABOR

Employment and Training Administration

[TA-W-81,097]

Kimberly-Clark Worldwide, Inc., a Subsidiary of Kimberly-Clark Corporation, Everett Mill, Including On-Site Leased Workers From Injury Free, Incorporated, Ventilation Power Cleaning, Inc., Covenant Security Services, Healthforce, Uniseve Corporation, Jacobs Engineering and Stafflogix Corporation, Everett, WA; Amended Certification Regarding Eligibility To Apply for Worker Adjustment Assistance

In accordance with Section 223 of the Trade Act of 1974, as amended (“Act”), 19 U.S.C. 2273, the Department of Labor issued a Certification of Eligibility to Apply for Worker Adjustment Assistance on December 14, 2011, applicable to workers of Kimberly-Clark Worldwide, Inc., a subsidiary of Kimberly-Clark Corporation, Everett Mill, including on-site leased workers from Injury Free, Incorporated, Ventilation Power Cleaning, Inc., Covenant Security Services, Healthforce, UNISEVE Corporation and Jacobs Engineering, Everett, Washington. The workers are engaged in activities related to the production of tissue products (paper towels, toilet paper, wipes) and wood pulp. The notice was published in the Federal Register on December 29, 2011 (76 FR 81988).

At the request of Washington State and a company official, the Department reviewed the certification for workers of the subject firm. New information from the company shows that workers leased from STAFFLOGIX Corporation were employed on-site at the Everett, Washington location of Kimberly-Clark Worldwide, Inc., a subsidiary of Kimberly-Clark Corporation, Everett Mill. The Department has determined that these workers were sufficiently under the control of Kimberly-Clark Worldwide, Inc., a subsidiary of Kimberly-Clark Corporation, Everett Mill to be considered leased workers.

The intent of the Department's certification is to include all workers of the subject firm who were adversely affected by increased company imports of tissue products (paper towels, toilet paper, wipes) and wood pulp.

Based on these findings, the Department is amending this certification to include workers leased from STAFFLOGIX Corporation working on-site at the Everett, Washington location of the subject firm.

The amended notice applicable to TA-W-81,097 is hereby issued as follows:

All workers from Kimberly-Clark Worldwide, Inc., a subsidiary of Kimberly-Clark Corporation, Everett Mill, including on-site leased workers from Injury Free, Incorporated, Ventilation Power Cleaning, Inc., Covenant Security Services, Healthforce, UNISEVE Corporation, Jacobs Engineering and STAFFLOGIX Corporation, Everett, Washington, who became totally or partially separated from employment on or after February 13, 2010, through December 16, 2013, and all workers in the group threatened with total or partial separation from employment on date of certification through two years from the date of certification, are eligible to apply for adjustment assistance under Chapter 2 of Title II of the Trade Act of 1074, as amended.

Signed at Washington, DC, this 25th day of January 2012.
Elliott S. Kushner,
Certifying Officer, Office of Trade Adjustment Assistance.

[FR Doc. 2012-3325 Filed 2-13-12; 8:45 am]

BILLING CODE 4510-FN-P